ENVIRONMENTAL PROTECTION AGENCY

[EPA-HQ-OPP-2005-0057; FRL-9389-6]

Chlorpyrifos; Cancellation Order for Certain Pesticide Registrations

AGENCY: Environmental Protection Agency (EPA).

ACTION: Notice.

SUMMARY: This notice announces EPA's order for the cancellations, voluntarily requested by the registrant and accepted by the Agency, of products containing chlorpyrifos, pursuant to the Federal Insecticide, Fungicide, and Rodenticide Act (FIFRA). This cancellation order follows a March 9, 2005 Federal Register Notice of Receipt of Request from the registrant listed in Table 2 of Unit II. to voluntarily cancel these product registrations. These are not the last products containing this pesticide registered for use in the United States. In the March 9, 2005 notice, EPA indicated that it would issue an order implementing the cancellations, unless the Agency received substantive comments within the 180-day comment period that would merit its further review of these requests, or unless the registrant withdrew their request. The Agency did not receive any comments on the notice. Further, the registrant did not withdraw their request. Accordingly, EPA hereby issues in this notice a cancellation order granting the requested cancellations. Any distribution, sale, or use of the products subject to this cancellation order is permitted only in accordance with the terms of this order, including any existing stocks provisions.

DATES: The cancellations are effective July 3, 2013.

FOR FURTHER INFORMATION CONTACT: Tom Myers, Pesticide Re-Evaluation Division (7508P), Office of Pesticide Programs, Environmental Protection Agency, 1200 Pennsylvania Ave. NW., Washington, DC 20460-0001; telephone number: (703) 308-8589; fax number: (703) 308-7070; email address: myers.tom@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I Get copies of this document and other related information?

The docket for this action, identified by docket identification (ID) number EPA-HQ-OPP-2005-0057, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellations, as requested by the registrant, of the products registered under FIFRA section 3. These registrations are listed in sequence by registration number in Table 1 of this unit.

Table 1—Chlorpyrifos Product Cancellations
EPA Registration number | Product name
062719-00014 | Dursban ½ G Granular.
062719-00035 | Dursban Turf Insecticide.
062719-00038 | Lorsban 50-SI Wettable Powder.
062719-00039 | Lorsban 50-W Wettable Powder.
062719-00054 | Dursban 1-D.
062719-00068 | Dursban 50w.
062719-00167 | Equity.
062719-00255 | Dursban 50W-N in Water Soluble Packets.
062719-00293 | Dursban 75WG.
062719-00295 | Lorsban 30G.
062719-00316 | Dursban Plus Fertilizer 2.
062719-00349 | Lentrek 6.
062719-00350 | XRM-5222.
062719-00354 | Dursban 30 SEC.
062719-00380 | Lorsban 12.6%.
062719-00382 | Chlorfos 4E Insecticide.
062719-00383 | Chlorfos 15G.
CA940017 | Lorsban 4E-HF.
FL920007 | Lorsban 50W.
ID860017 | Dow Dursban 4E Insecticide.
LA960005 | Dursban TC Concentrate.
LA960007 | Equity Termiticide Concentrate.
MN960003 | Lorsban 4E-SG.
MS910008 | Equity Termiticide Concentrate.
MS930012 | Dursban 4E Insecticide.
MS960008 | Dursban TC Concentrate.
MS960009 | Equity Termiticide Concentrate.
MS960010 | Dursban TC Concentrate.
MS960014 | Dursban TC Concentrate.
ND950006 | Lorsban 4E-SG.
SC960003 | Dursban TC Concentrate.
SC960004 | Dursban TC Concentrate.
SC960005 | Equity Termiticide Concentrate.
TN900007 | Dursban Turf Insecticide

Table 2 of this unit includes the name and address of record for the registrant of the products listed in Table 1 of this unit, by EPA company number. This number corresponds to the first part of the EPA registration numbers of the products listed in Table 1 of this unit.

Table 2—Registrant of Cancelled Products
EPA Company number | Company name and address
62719 | Dow AgroSciences, LLC, 9330 Zionsville Rd., Indianapolis, IN 46268.

III. Summary of Public Comments Received and Agency Response to Comments

During the public comment period provided, EPA received no comments in response to the March 9, 2005 Federal Register notice announcing the Agency's receipt of the request for voluntary cancellations of products listed in Table 1 of Unit II.

IV. Cancellation Order

Pursuant to FIFRA section 6(f), EPA hereby approves the requested cancellations of chlorpyrifos registrations identified in Table 1 of Unit II. Accordingly, the Agency hereby orders that the product registrations identified in Table 1 of Unit II. are canceled. The effective date of the cancellations that are subject of this notice is July 3, 2013. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on March 9, 2005 (70 FR 11634) (FRL-7701-3). The comment period closed on September 6, 2005.

VI. Provisions for Disposition of Existing Stocks

Existing stocks are those stocks of registered pesticide products which are currently in the United States and which were packaged, labeled, and released for shipment prior to the effective date of the cancellation action. The Federal Register Notice of March 9, 2005, proposed to allow without limitation the distribution or sale of existing stocks by non-registrants, as well as the use of existing stocks. However, over 8 years have now passed since that notice was published and it is EPA's understanding that the registrant has not produced the products since that time. As a result, EPA believes there is likely little if any product remaining in the channels of trade and believes what little there may be of these old products should no longer be put to use. Accordingly, the cancellation order issued in this notice includes the following existing stocks provisions: The cancellation order issued in this notice includes the following existing stocks provisions.

The distribution, sale or use of existing stocks will not be lawful under FIFRA with the date of this cancellation order except for the purpose of returns and relabeling, shipping such stocks for export consistent with the requirements of section 17 of FIFRA, or for proper disposal.

List of Subjects

Environmental protection, Pesticides and pests.

Dated: June 10, 2013.
Richard P. Keigwin, Jr.,
Director, Pesticide Re-Evaluation Division, Office of Pesticide Programs.

[FR Doc. 2013-15865 Filed 7-2-13; 8:45 am]

BILLING CODE 6560-50-P